DEPARTMENT OF HEALTH AND HUMAN SERVICES

Centers for Disease Control and Prevention

[30Day-10-0017]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Application for Training (OMB No. 0920-0017 Exp. 3/31/2010)—Extension—Office of Workforce and Career Development (OWCD), Centers for Disease Control and Prevention (CDC).

Background and Brief Description

OWCD requests an additional three years to continue CDC's and the Agency for Toxic Substances and Disease Registry's (ATSDR's) use of the training application forms 32.1 and 36.5 (50,000 students × 5 minutes for form 32.1, and 24,000 students × 5 minutes for form 36.5). These instruments have served and are proposed to continue serving as official training applications forms used for training activities conducted by the Centers for Disease Control and Prevention (CDC).

CDC offers public health training activities to professionals worldwide. Employees of hospitals, universities, medical centers, laboratories, State and Federal agencies, and State and local health departments apply for training to learn up-to-date public health practices. CDC's training activities include laboratory training, classroom study, online training, and distance learning.

CDC uses training application forms to collect information necessary to manage and conduct training pertinent to the agency's mission. This information allows CDC to send confirmation of registration to participants, provide certificates of attendance or continuing education credits as proof of participants' attendance, and generate management reports to identify training needs, design courses, select location for courses, and evaluate programs.

Since the previous approval, there have been no changes to the information collection instruments; however, the number of annual responses has increased, simultaneously increasing burden hours.

There are no costs to the respondents other than their time. The total estimated annualized burden is 6,167 hours.

Estimated Annualized Burden Hours
Type of respondents | Type of forms | Number of respondents | Number of responses per respondent | Average burden per response (in hours)
Laboratorians | Form 32.1 | 50,000 | 1 | 5/60
Nurses | Form 36.5 | 12,000 | 1 | 5/60
Doctors | Form 36.5 | 12,000 | 1 | 5/60

Dated: January 18, 2010.
Maryam I. Daneshvar,
Acting Reports Clearance Officer, Centers for Disease Control and Prevention.

[FR Doc. 2010-1165 Filed 1-21-10; 8:45 am]

BILLING CODE 4163-18-P